SURFACE TRANSPORTATION BOARD

[Docket No. FD 36216]

San Pedro Valley Holdings, LLC—Acquisition Exemption—San Pedro and Southwestern Railroad Company in Cochise County, Ariz.

San Pedro Valley Holdings, LLC (SPVH), a noncarrier, has filed a verified notice of exemption under 49 CFR 1150.31 to acquire two rail lines owned by the San Pedro and Southwestern Railroad Company: (1) From point of connection to Union Pacific Railroad (UP) at milepost 1033.25 at or near Benson, to milepost 1040.15 at or near St. David, a distance of 6.9 miles in Cochise County, Ariz.; and (2) from point of connection to UP at milepost 1074 at or near Wilcox, to all tracks at Wilcox Yard, a total of 8,281 feet or 1.57 miles, in Cochise County (collectively, the Lines). The Lines total approximately 8.47 miles.

This transaction is related to a concurrently filed verified notice of exemption in Gregory B. Cundiff—Continuance in Control Exemption—San Pedro Valley Holdings, LLC in Cochise County, Ariz., Docket No. FD 36218, in which CGX, Inc., seeks Board approval to continue in control of SPVH upon SPVH's becoming a Class III rail carrier.

SPVH certifies that, as a result of the proposed transaction, its projected annual revenues will not result in its becoming a Class I or Class II rail carrier and will not exceed $5 million. SPVH also certifies that the proposed transaction does not involve any interchange commitments as defined in 49 CFR 1150.43(h).

The earliest this transaction may be consummated is October 17, 2018, the effective date of the exemption (30 days after the verified notice was filed).¹ SPVH states that it intends to consummate the transaction no sooner than 30 days after the filing of this notice of exemption.

¹ SPVH filed its verified notice of exemption on August 30, 2018. On September 17, 2018, however, SPVH supplemented its verified notice to clarify references to Docket No. FD 36218. Therefore, September 17, 2018, is deemed the verified notice's filing date.

If the verified notice contains false or misleading information, the exemption is void ab initio. Petitions to revoke the exemption under 49 U.S.C. 10502(d) may be filed at any time. The filing of a petition to revoke will not automatically stay the effectiveness of the exemption. Petitions to stay must be filed by October 10, 2018 (at least seven days before the exemption becomes effective).

An original and 10 copies of all pleadings, referring to Docket No. FD 36216, must be filed with the Surface Transportation Board, 395 E Street SW, Washington, DC 20423-0001. In addition, a copy of each pleading must be served on SPVH's counsel, Thomas F. McFarland, Thomas F. McFarland, P.C., 208 South LaSalle Street, Suite 1666, Chicago, IL 60604-1228.

According to SPVH, no environmental or historic documentation or report is required pursuant to 49 CFR 1105.6(c) and 1105.8(b).

Board decisions and notices are available on our website at www.stb.gov.

Decided: September 25, 2018.
By the Board, Scott M. Zimmerman, Acting Director, Office of Proceedings.
Jeffrey Herzig,
Clearance Clerk.

[FR Doc. 2018-21185 Filed 9-27-18; 8:45 am]

BILLING CODE 4915-01-P